FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than August 6, 2013.

A. Federal Reserve Bank of Cleveland (Nadine Wallman, Vice President) 1455 East Sixth Street, Cleveland, Ohio 44101-2566:

1. ESB Financial Corporation Employee Stock Ownership Plan, Ellwood City, Pennsylvania; Mario John Manna, Trustee; Mario John Manna's IRA Account; Claudia Brown Moore; Claudia Brown Moore's IRA Account; and Dolores Silvestri, all of Coraopolis, Pennsylvania; to retain and acquire additional voting shares of ESB Financial Corporation, and thereby indirectly retain and acquire additional voting shares of ESB Bank, both in Ellwood City, Pennsylvania.

Board of Governors of the Federal Reserve System, July 17, 2013.
Michael J. Lewandowski,
Associate Secretary of the Board.

[FR Doc. 2013-17510 Filed 7-19-13; 8:45 am]

BILLING CODE 6210-01-P